EXPORT-IMPORT BANK OF THE UNITED STATES

Sunshine Act Meeting

ACTION: Notice of a partially open meeting of the Board of Directors of the Export-Import Bank of the United States.

TIME AND PLACE: Tuesday, April 27, 2004, at 2 p.m. The meeting will be held at Ex-Im Bank in Room 1143, 811 Vermont Avenue, NW., Washington, DC 20571.

OPEN AGENDA ITEMS: (1) Medical Equipment Initiative;

(2) Amendment to Working Capital Guarantee Program Fast Track Application Processing; and

(3) Co-Guarantee Pilot Program with the Small Business Administration.

PUBLIC PARTICIPATION: The meeting will be open to public participation for Items No. 1-3 only.

FOR FURTHER INFORMATION CONTACT: For further information, contact: Office of the Secretary, 811 Vermont Avenue, NW., Washington, DC 20571 (Tele. No. 202-565-3957)

Peter B. Saba,
General Counsel.

[FR Doc. 04-9480 Filed 4-21-04; 3:19 pm]

BILLING CODE 6690-01-M